DEPARTMENT OF HEALTH AND HUMAN SERVICES

National Institutes of Health

Center for Scientific Review; Amended Notice of Meeting

Notice is hereby given of a change in the meeting of the Cardiovascular and Renal Study Section, June 23, 2003, 8 a.m. to June 25, 2003, 1 p.m., Holiday Inn Select Bethesda, 8120 Wisconsin Ave, Bethesda, MD, 20814 which was published in the Federal Register on June 9, 2003, 68 FR 34406-34408.

The meeting will be held at the Holiday Inn Chevy Chase, 5520 Wisconsin Avenue, Chevy Chase, MD,20815. The meeting date and time remains the same. The meeting is closed to the public.

Dated: June 16, 2003.
LaVerne Y. Stringfield,
Director, Office of Federal Advisory Committee Policy.

[FR Doc. 03-15718 Filed 6-20-03; 8:45 am]

BILLING CODE 4140-01-M